DEPARTMENT OF COMMERCE

National Oceanic and Atmospheric Administration

[RTID 0648-XD804]

Marine Mammals; File No. 27548

AGENCY: National Marine Fisheries Service (NMFS), National Oceanic and Atmospheric Administration (NOAA), Commerce.

ACTION: Notice; receipt of application.

SUMMARY: Notice is hereby given that Lars Bejder, Ph.D., University of Hawaii at Manoa, 46-007 Lilipuna Road, Kaneohe, Hawaii 96744, has applied in due form for a permit to conduct research on cetaceans.

DATES: Written comments must be received on or before April 15, 2024.

ADDRESSES: The application and related documents are available for review by selecting “Records Open for Public Comment” from the “Features” box on the Applications and Permits for Protected Species home page, https://apps.nmfs.noaa.gov, and then selecting File No. 27548 from the list of available applications. These documents are also available upon written request via email to NMFS.Pr1Comments@noaa.gov.

Written comments on this application should be submitted via email to NMFS.Pr1Comments@noaa.gov. Please include File No. 27548 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Erin Markin, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year research permit to study cetaceans including fundamental biology, ecology, habitat use, social structure, behavior, energetics, and impacts of human activities. Up to 31 species of marine mammals may be targeted including the following ESA-listed species: blue (Balaenoptera musculus), bowhead (Balaena mysticetus), fin (Balaenoptera physalus), false killer (Pseudorca crassidens; Hawaiian insular distinct population segment [DPS]), gray (Eschrichtius robustus; Western North Pacific DPS), humpback (Megaptera novaeangliae; Western North Pacific and Mexico DPSs), sei (Balaenoptera. borealis), and sperm (Physeter macrocephalus) whales. Research may occur year-round in U.S. and international waters of the Pacific Ocean near Hawaii, Alaska, and U.S. territories. Research may be conducted from a vessel or unmanned aircraft system for counts, photography and video recording (above and underwater), photogrammetry, passive acoustics, tracking, biological sampling (skin and blubber biopsy, sloughed skin, exhaled air, and feces), and suction-cup tagging. See the application for complete numbers of animals requested by species, age-class, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 12, 2024.
Julia M. Harrison,
Chief, Permits and Conservation Division, Office of Protected Resources, National Marine Fisheries Service.

[FR Doc. 2024-05596 Filed 3-14-24; 8:45 am]

BILLING CODE 3510-22-P